INTERNATIONAL TRADE COMMISSION

Certain Windshield Wipers and Components Thereof

[Investigation No. 337-TA-928 and Investigation No. 337-TA-937 (Consolidated)]

Notice of a Commission Determination not to Review an Initial Determination Terminating Investigation as to Federal-Mogul Respondents Based on a Settlement Agreement

AGENCY: U.S. International Trade Commission.

ACTION: Notice.

SUMMARY: Notice is hereby given that the U.S. International Trade Commission has determined not to review an initial determination (“ID”) (Order No. 24) of the presiding administrative law judge (“ALJ”) terminating the investigation as to Federal-Mogul respondents based on a settlement agreement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Investigation No. 337-TA-928, Certain Windshield Wipers and Components Thereof, under section 337 of the Tariff Act of 1930, as amended, 19 U.S.C. 1337 (“section 337”), on September 2, 2014, based on a complaint filed by Valeo North America, Inc. of Troy, MI, and Delmex de Juarez S. de R.L. de C.V. of Mexico (collectively, “Valeo”). The complaint alleges a violation of section 337 by reason of infringement of certain claims of U.S. Patent Nos. 7,891,044 (“the `044 patent”); 7,937,798 (“the `798 patent”); and 8,220,106 by Federal-Mogul Corp. of Southfield, Michigan; Federal-Mogul Vehicle Component Solutions, Inc. of Southfield, Michigan; and Federal-Mogul S.A. of Aubange, Belgium (collectively, “Federal-Mogul”). 79 FR 52041-42 (Sep. 2, 2014).

On November 21, 2014, the Commission instituted Investigation No. 337-TA-937, Certain Windshield Wipers and Components Thereof, based on a separate complaint filed by Valeo. The complaint alleges a violation of section 337 by reason of infringement of certain claims of the `044 patent and the `798 patent by Trico Products Corporation of Rochester Hills, Michigan, Trico Products of Brownsville, Texas; and Trico Componentes SA de CV of Tamaulipas, Mexico. 79 FR 69525-26 (Nov. 21, 2014).

On December 9, 2014, the ALJ consolidated Investigation Nos. 337-TA-928 and 337-TA-937. See ALJ Order No. 8 in the investigation 337-TA-928. The Office of Unfair Import Investigations does not participate as a party in these consolidated investigations.

On May 19, 2015, complainants Valeo and respondents Federal-Mogul, inter alia, filed a joint motion pursuant to 19 CFR 210.21(a)(2) and (b) to terminate by settlement the Federal-Mogul respondents. No responses were filed.

On June 5, 2015, the ALJ issued Order No. 24 in which he, inter alia, granted the joint motion to terminate the investigation as to respondents Federal-Mogul based on a settlement agreement. This portion of Order No. 24 represents the subject ID. The ALJ found that the joint motion complies with the Commission Rules, and that termination of the investigation as to Federal-Mogul is in the public interest and will conserve public and private resources. No party petitioned for review of Order No. 24, and the Commission has determined not to review it.

The authority for the Commission's determination is contained in section 337 of the Tariff Act of 1930, as amended (19 U.S.C. 1337), and in part 210 of the Commission's Rules of Practice and Procedure (19 CFR part 210).

By order of the Commission.
Issued: June 29, 2015.
William R. Bishop,
Supervisory Hearings and Information Officer.

[FR Doc. 2015-16436 Filed 7-2-15; 8:45 am]

BILLING CODE 7020-02-P